DEPARTMENT OF TRANSPORTATION

Federal Aviation Administration

14 CFR Part 39

[Docket No. FAA-2020-1178; Project Identifier MCAI-2020-01325-T; Amendment 39-21545; AD 2021-10-12]

RIN 2120-AA64

Airworthiness Directives; Airbus SAS Airplanes

AGENCY: Federal Aviation Administration (FAA), Department of Transportation (DOT).

ACTION: Final rule.

SUMMARY: The FAA is superseding Airworthiness Directive (AD) 2020-09-14, which applied to certain Airbus SAS Model A350-941 and -1041 airplanes. AD 2020-09-14 required revising the existing airplane flight manual (AFM) to define a liquid-prohibited zone on the flight deck and provide procedures following liquid spillage on the center pedestal. AD 2020-09-14 also required installing a removable integrated control panel (ICP) cover on the flight deck and further revising the AFM to include instructions for ICP cover use. This AD requires installing a new, water-resistant ICP, which allows removing the ICP protective cover and the AFM revisions, as specified in a European Union Aviation Safety Agency (EASA) AD, which is incorporated by reference. This AD was prompted by development of a new, water-resistant ICP. The FAA is issuing this AD to address the unsafe condition on these products.

DATES: This AD is effective July 29, 2021.

The Director of the Federal Register approved the incorporation by reference of a certain publication listed in this AD as of July 29, 2021.

ADDRESSES: For material incorporated by reference (IBR) in this AD, contact EASA, Konrad-Adenauer-Ufer 3, 50668 Cologne, Germany; telephone +49 221 8999 000; email ADs@easa.europa.eu; internet www.easa.europa.eu. You may find this IBR material on the EASA website at https://ad.easa.europa.eu. You may view this IBR material at the FAA, Airworthiness Products Section, Operational Safety Branch, 2200 South 216th St., Des Moines, WA. For information on the availability of this material at the FAA, call 206-231-3195. It is also available in the AD docket on the internet at https://www.regulations.gov by searching for and locating Docket No. FAA-2020-1178.

Examining the AD Docket

You may examine the AD docket on the internet at https://www.regulations.gov by searching for and locating Docket No. FAA-2020-1178; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Kathleen Arrigotti, Aerospace Engineer, Large Aircraft Section, International Validation Branch, FAA, 2200 South 216th St., Des Moines, WA 98198; telephone and fax 206-231-3218.

SUPPLEMENTARY INFORMATION:

Background

EASA, which is the Technical Agent for the Member States of the European Union, has issued EASA AD 2020-0203, dated September 23, 2020 (EASA AD 2020-0203) (also referred to as the Mandatory Continuing Airworthiness Information, or the MCAI), to correct an unsafe condition for certain Airbus SAS Model A350-941 and -1041 airplanes.

The FAA issued a notice of proposed rulemaking (NPRM) to amend 14 CFR part 39 to supersede AD 2020-09-14, Amendment 39-19910 (85 FR 30601, May 20, 2020) (AD 2020-09-14). AD 2020-09-14 applied to certain Airbus SAS Model A350-941 and -1041 airplanes. The NPRM published in the Federal Register on February 22, 2021 (86 FR 10493). The NPRM was prompted by a new, water-resistant ICP developed by the manufacturer to address the identified unsafe condition. The NPRM proposed to continue to require revising the existing AFM to define a liquid-prohibited zone on the flight deck and provide procedures following liquid spillage on the center pedestal. The NPRM also proposed to continue to require installing a removable ICP cover on the flight deck and further revising the AFM to include instructions for ICP cover use, as specified in EASA AD 2020-0203. The NPRM also proposed to require installing a new, water-resistant ICP, which would allow removing the ICP protective cover and the AFM revisions, as specified in EASA AD 2020-0203.

The FAA is issuing this AD to address the potential for dual-engine in-flight shutdown (IFSD), possibly resulting in a forced landing with consequent damage to the airplane and injury to occupants. See the MCAI for additional background information.

Comments

The FAA gave the public the opportunity to participate in developing this final rule. The FAA has considered the comment received. The Air Line Pilots Association, International (ALPA) indicated its support for the NPRM.

Change to the Costs of Compliance Section

In the NPRM, the FAA did not provide a parts cost estimate for the new actions, and it was noted that the FAA had received no definitive data regarding cost estimates for those parts. Since publication of the NPRM, the FAA has obtained a parts cost estimate from the manufacturer, and has updated the Costs of Compliance section of this final rule accordingly.

Conclusion

The FAA reviewed the relevant data, considered the comment received, and determined that air safety and the public interest require adopting this final rule as proposed, except for minor editorial changes. The FAA has determined that these minor changes:

• Are consistent with the intent that was proposed in the NPRM for addressing the unsafe condition; and

• Do not add any additional burden upon the public than was already proposed in the NPRM.

Related Service Information Under 1 CFR Part 51

EASA AD 2020-0203 describes procedures for revising the AFM to define a liquid-prohibited zone on the flight deck and provide procedures following liquid spillage on the center pedestal, installing an ICP cover on the flight deck, and further revising the AFM to include instructions for ICP cover use. EASA AD 2020-0203 also describes procedures for installing a new, water-resistant ICP; removing the ICP protective cover; and removing the AFM revisions. This material is reasonably available because the interested parties have access to it through their normal course of business or by the means identified in the ADDRESSES section.

Costs of Compliance

The FAA estimates that this AD affects 15 airplanes of U.S. registry. The FAA estimates the following costs to comply with this AD:

Estimated Costs for Required Actions
Action | Labor cost | Parts cost | Cost per product | Cost on U.S. operators
Retained AFM revision from AD 2020-09-14 | 1 work-hour × $85 per hour = $85 | $0 | $85 | $1,105.
Retained installation from AD 2020-09-14 | 2 work-hours × $85 per hour = $170 | (*) | 170 * | 2,210.*
New actions | Up to 42 work-hours × $85 per hour = Up to $3,570 | 5,700 | Up to $9,270 | Up to $139,050.
* The FAA has received no definitive data regarding cost estimates for these parts.

The FAA has received no definitive data on which to base the cost estimates for the on-condition actions specified in this AD.

According to the manufacturer, some or all of the costs of this AD may be covered under warranty, thereby reducing the cost impact on affected operators. The FAA does not control warranty coverage for affected operators. As a result, the FAA has included all known costs in the cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by

a. Removing Airworthiness Directive (AD) 2020-09-14, Amendment 39-19910 (85 FR 30601, May 20, 2020), and

b. Adding the following new AD:

2021-10-12 Airbus SAS: Amendment 39-21545; Docket No. FAA-2020-1178; Project Identifier MCAI-2020-01325-T.

(a) Effective Date

This airworthiness directive (AD) is effective July 29, 2021.

(b) Affected ADs

This AD replaces AD 2020-09-14, Amendment 39-19910 (85 FR 30601, May 20, 2020) (AD 2020-09-14).

(c) Applicability

This AD applies to Airbus SAS Model A350-941 and -1041 airplanes, certificated in any category, as identified in European Union Aviation Safety Agency (EASA) AD 2020-0203, dated September 23, 2020 (EASA AD 2020-0203).

(d) Subject

Air Transport Association (ATA) of America Code 31, Instruments.

(e) Reason

This AD was prompted by two reports of abnormal operation of the components of the ENG START panel or Electronic Centralized Aircraft Monitoring (ECAM) Control Panel (ECP) due to liquid spillage in the system, and the subsequent uncommanded engine in-flight shutdown (IFSD) of one engine in each case. This AD was also prompted by the development of a new, water-resistant integrated control panel (ICP) that will address this unsafe condition. The FAA is issuing this AD to address the potential for dual-engine IFSD, possibly resulting in a forced landing with consequent damage to the airplane and injury to occupants.

(f) Compliance

Comply with this AD within the compliance times specified, unless already done.

(g) Requirements

Except as specified in paragraph (h) of this AD: Comply with all required actions and compliance times specified in, and in accordance with, EASA AD 2020-0203.

(h) Exceptions to EASA AD 2020-0203

(1) Where EASA AD 2020-0203 refers to its effective date, this AD requires using the effective date of this AD.

(2) Where EASA AD 2020-0203 refers to the effective date of EASA AD 2020-0020E, this AD requires using February 14, 2020 (the effective date of AD 2020-03-12 (85 FR 7863, February 12, 2020)).

(3) Where EASA AD 2020-0203 refers to the effective date of EASA AD 2020-0090, this AD requires using June 4, 2020 (the effective date of AD 2020-09-14).

(4) Where paragraph (7) of EASA AD 2020-0203 specifies removing the AFM [airplane flight manual] changes “as required by paragraph (2) or (4) of [the MCAI], as applicable,” this AD requires removing the AFM changes required by paragraph (1), (2), (4), or (5), as applicable, from the AFM.

(5) For airplanes with Mod 116010: This AD does not require the actions specified in paragraphs (1), (3), and (4) of EASA AD 2020-0203, as specified in paragraph (g) of this AD.

(6) “Note 1” of EASA AD 2020-0203 does not apply to this AD. However, after the actions required by EASA AD 2020-0203, paragraphs (3) through (5), as required by paragraph (g) of this AD, have been accomplished on an airplane, that airplane may be operated with a damaged or missing ICP removable cover, provided provisions that address the ICP removable cover are included in the operator's approved minimum equipment list (MEL). After the actions required by EASA AD 2020-0203, paragraph (6), as required by paragraph (g) of this AD, have been accomplished on an airplane, that airplane may be operated without an ICP removable cover, provided provisions that address the ICP removable cover are removed from the operator's approved MEL.

(7) The “Remarks” section of EASA AD 2020-0203 does not apply to this AD.

(i) Special Flight Permit

Special flight permits may be issued in accordance with 14 CFR 21.197 and 21.199 to operate the airplane to a location where the actions specified in this AD can be accomplished (if the operator elects to do so), provided a removable ICP cover is installed on the flight deck.

(j) Other FAA AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or responsible Flight Standards Office, as appropriate. If sending information directly to the Large Aircraft Section, International Validation Branch, send it to the attention of the person identified in paragraph (k) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, Large Aircraft Section, International Validation Branch, FAA; or EASA; or Airbus SAS's EASA Design Organization Approval (DOA). If approved by the DOA, the approval must include the DOA-authorized signature.

(3) Required for Compliance (RC): Except as required by paragraph (j)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

For more information about this AD, contact Kathleen Arrigotti, Aerospace Engineer, Large Aircraft Section, International Validation Branch, FAA, 2200 South 216th St., Des Moines, WA 98198; telephone and fax 206-231-3218.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2020-0203, dated September 23, 2020.

(ii) [Reserved]

(3) For EASA AD 2020-0203, contact EASA, Konrad-Adenauer-Ufer 3, 50668 Cologne, Germany; telephone +49 221 8999 000; email ADs@easa.europa.eu; internet www.easa.europa.eu. You may find this EASA AD on the EASA website at https://ad.easa.europa.eu.

(4) You may view this material at the FAA, Airworthiness Products Section, Operational Safety Branch, 2200 South 216th St., Des Moines, WA. For information on the availability of this material at the FAA, call 206-231-3195. This material may be found in the AD docket on the internet at https://www.regulations.gov by searching for and locating Docket No. FAA-2020-1178.

(5) You may view this material that is incorporated by reference at the National Archives and Records Administration (NARA). For information on the availability of this material at NARA, email fedreg.legal@nara.gov, or go to: https://www.archives.gov/federal-register/cfr/ibr-locations.html.

Issued on April 30, 2021.
Lance T. Gant,
Director, Compliance & Airworthiness Division, Aircraft Certification Service.

[FR Doc. 2021-13123 Filed 6-23-21; 8:45 am]

BILLING CODE 4910-13-P